DEPARTMENT OF JUSTICE

National Institute of Justice

[OMB Number-1121-NEW]

Agency Information Collection Activities: Proposed New Information Collection Activity; Comment Request, Proposed Study Entitled “Historically Black Colleges and Universities (HBCU) Sexual Violence Climate Survey Project”

AGENCY: National Institute of Justice, U.S. Department of Justice.

ACTION: 30-Day notice.

SUMMARY: The Department of Justice (DOJ), Office of Justice Programs, National Institute of Justice, will be submitting the following information collection request to the Office of Management and Budget (OMB) for review and approval in accordance with the Paperwork Reduction Act of 1995.

DATES: Comments are encouraged and will be accepted for an additional 30 days until August 11, 2017.

FOR FURTHER INFORMATION CONTACT: Written comments and/or suggestions regarding the items contained in this notice, especially the estimated public burden and associated response time, should be directed to Christine Crossland, National Institute of Justice, Office of Research and Evaluation, 810 Seventh Street NW., Washington, DC 20531 (overnight 20001) or via email at christine.crossland@ojp.usdoj.gov. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Modification of the Bureau of Justice Statistics' (BJS) campus climate survey; Cognitive testing; Pilot testing of modified survey.

(2) Title of the Form/Collection: Historically Black Colleges and Universities (HBCU) Sexual Violence Climate Survey Project.

(3) Agency form number, if any, and the applicable component of the Department sponsoring the collection: The applicable component within the U.S. Department of Justice is the National Institute of Justice in the Office of Justice Programs.

(4) Affected public who will be asked or required to respond, as well as a brief abstract: In early 2014, the White House established the Task Force to Protect Students from Sexual Assault. Representatives to the Task Force were from several federal departments and agencies, including the Centers for Disease Control and Prevention (CDC), the Office on Violence Against Women (OVW), and the National Institute of Justice (NIJ). The task force put forth a mandate to strengthen federal enforcement efforts and provide schools with additional tools to help prevent sexual violence on campuses. One such tool is the campus climate survey designed to help schools understand the magnitude and nature of sexual victimization experienced by students. As such, in 2014 OVW funded the Bureau of Justice Statistics (BJS), within the U.S. Department of Justice, to develop and test a pilot campus climate survey. The current project builds on the work of BJS by modifying their campus climate survey for use at HBCUs.

(5) NIJ, in collaboration with the Rutgers Violence Against Women Research Consortium, will begin by engaging in cognitive testing to determine if the BJS campus climate survey is relevant to students from HBCUs. The methods for cognitive testing are based on the methods used in the BJS Validation Study. Two forms of cognitive testing will be used. First, crowdsourcing will be used to test the instrument online. Approximately 240 crowdsourced surveys will be piloted with participants who are 18-25 years old, with a high school degree and matching the racial/ethnical demographics of HBCUs over approximately 2 months. Second, cognitive interviewing will then be used to further test the BJS campus climate survey with 30 African-American students (potentially to be recruited from the Rutgers-Newark campus). The BJS survey instrument will then be modified based on the findings from the crowdsourced surveys and cognitive interviews for use at HBCUs. Lastly, the modified BJS survey will be tested at three to six HBCUs; the survey will be offered to a random sample of 3,300 students over a period of approximately 2 months. At the end of this study, results from the survey will assist with the validation of a campus climate survey tool for HBCUs as well as information on the sexual violence rates at HBCUs.

(6) An estimate of the total number of respondents and the amount of time estimated for an average respondent to respond/reply: The estimated range of burden for respondents completing the crowdsourcing survey is 30 minutes. Approximately 240 participants will be recruited to complete the survey. The estimated range of burden for respondents participating in the cognitive interviewing is 60 minutes. Approximately 30 students will be recruited to complete a cognitive interview. Lastly, the estimated range of burden for respondents completing the HBCU campus climate survey is expected to be between 15 minutes to 30 minutes for completion. The following factors were considered when creating the burden estimate: The estimated total number of sites (3 HBCUs plus 1 cognitive testing site) and students within sites (240 for crowd sourced surveys, 30 for cognitive interviews, and 3,300 at HBCUs), in the sampling plan for a total of 3,570 expected respondents.

(7) An estimate of the total public burden (in hours) associated with the collection: The estimated public burden associated with this collection is 1,800 hours. It is estimated that each of the 240 crowd sourced surveys will take 30 minutes to complete (240 respondents × 30 minutes = 120 hours). It is estimated that each of the cognitive interviews will take 60 minutes to complete (30 respondents × 1 hour = 30 hours). Lastly, it is estimated that each campus climate survey will take 30 minutes to complete (3,300 respondents × 30 minutes = 1,650 hours). We estimate a 24-month data collection period, with all cognitive testing completed in year 1 for an annualized burden of 150 hours and all surveys administered in year 2, or an annualized burden of 1,650 hours for year 2.

If additional information is required contact: Melody Braswell, Department Clearance Officer, United States Department of Justice, Justice Management Division, Policy and Planning Staff, Two Constitution Square, 145 N Street NE., 3E.405A, Washington, DC 20530.

Dated: July 6, 2017.
Melody Braswell,
Department Clearance Officer for PRA, U.S. Department of Justice.

[FR Doc. 2017-14528 Filed 7-11-17; 8:45 am]

BILLING CODE 4410-18-P